DEPARTMENT OF TRANSPORTATION

Federal Aviation Administration

[Docket No. 2022-0612]

Agency Information Collection Activities: Requests for Comments; Clearance of a Renewed Approval of Information Collection: Bipartisan Infrastructure Law Airport Terminal and Tower Project Information

AGENCY: Federal Aviation Administration (FAA), DOT.

ACTION: Notice and request for comments.

SUMMARY: In accordance with the Paperwork Reduction Act of 1995, FAA invites public comments about our intention to request the Office of Management and Budget (OMB) approval to renew an information collection. The collection involves soliciting project information for the Bipartisan Infrastructure Law (BIL) Airport Terminal and Tower Programs. The information to be collected will be used to determine projects to be awarded BIL competitive discretionary grants.

DATES: Written comments should be submitted by July 5, 2022.

ADDRESSES: Please send written comments:

By Electronic Docket: www.regulations.gov (Enter docket number into search field).

By mail: Robin K. Hunt, Federal Aviation Administration, ATTN: Airports Financial Assistance Division (APP-500), 800 Independence Avenue SW, Suite 619, Washington DC 20591.

By fax: 202-267-5302.

FOR FURTHER INFORMATION CONTACT: Robin K. Hunt, Manager, BIL Implementation Team, by email at: 9-ARP-BILAirports@faa.gov; phone: (202) 267-3831.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0806.

Title: Bipartisan Infrastructure Law Airport Terminal and Tower Project Information.

Form Numbers: 5100-144.

Type of Review: Renewal of an information collection.

Background: The FAA uses this collection to solicit the information necessary to evaluate and select airport terminal and tower projects for funding under the Bipartisan Infrastructure Law (BIL), signed on November 15, 2021. The BIL provides about $1,020,000,000 annually, for five years, to award competitive discretionary grants for airport terminal and tower development. Of this amount, about $1,000,000,000 annually, for five years, is for the Airport Terminal Program, and $20,000,000 annually, for five years, is for an Airport-owned Contract Tower Program (referred to collectively as “Airport Terminal and Towers Programs”). The information collected is based on grant considerations and priorities outlined in the BIL. Project consideration areas include increasing terminal capacity and passenger access; replacing aging infrastructure; achieving compliance with the Americans with Disabilities Act (42 U.S.C. 12101, et seq.) and expanding accessibility for persons with disabilities; improving airport access for historically disadvantaged populations; improving energy efficiency, including upgrading environmental systems, upgrading plant facilities, and achieving Leadership in Energy and Environmental Design (LEED) accreditation standards; improving airfield safety through terminal relocation; encouraging actual and potential competition; and creating good paying jobs. The information FAA is collecting will include general airport information, a project overview, and narratives on project consideration areas as outlined in the BIL. Airport owners and managers who want to pursue funding and obtain benefits from the BIL Airport Terminal and Tower Programs will submit information via FAA Form 5100-144 to compete for grants. Approximately 3,075 airports are eligible to compete for this funding, but FAA expects only a small subset of eligible airports to submit project information through this competitive discretionary grant process.

Respondents: Approximately 655 airports.

Frequency: Annually.

Estimated Average Burden per Response: 6 Hours.

Estimated Total Annual Burden: 3,930 Hours for all respondents.

Issued in Washington, DC, on May 3, 2022.
Robin K. Hunt,
Manager, BIL Implementation Team, Office of Airports.

[FR Doc. 2022-09803 Filed 5-5-22; 8:45 am]

BILLING CODE 4910-13-P